DEPARTMENT OF COMMERCE

National Oceanic and Atmospheric Administration

50 CFR Part 648

[RTID 0648-XB608]

Fisheries of the Northeastern United States; Summer Flounder Fishery; Quota Transfers From VA to CT and NC to RI

AGENCY: National Marine Fisheries Service (NMFS), National Oceanic and Atmospheric Administration (NOAA), Commerce.

ACTION: Notification of quota transfer.

SUMMARY: NMFS announces that the Commonwealth of Virginia and the State of North Carolina are transferring a portion of their 2021 commercial summer flounder quota to the states of Connecticut and Rhode Island, respectively. This adjustment to the 2021 fishing year quota is necessary to comply with the Summer Flounder, Scup, and Black Sea Bass Fishery Management Plan quota transfer provisions. This announcement informs the public of the revised 2021 commercial quotas for Virginia, North Carolina, Connecticut, and Rhode Island.

DATES: Effective November 22, 2021 through December 31, 2021.

FOR FURTHER INFORMATION CONTACT: Laura Hansen, Fishery Management Specialist, (978) 281-9225.

SUPPLEMENTARY INFORMATION: Regulations governing the summer flounder fishery are found in 50 CFR 648.100 through 648.110. These regulations require annual specification of a commercial quota that is apportioned among the coastal states from Maine through North Carolina. The process to set the annual commercial quota and the percent allocated to each state is described in § 648.102 and final 2021 allocations were published on December 21, 2020 (85 FR 82946).

The final rule implementing Amendment 5 to the Summer Flounder Fishery Management Plan (FMP), as published in the Federal Register on December 17, 1993 (58 FR 65936), provided a mechanism for transferring summer flounder commercial quota from one state to another. Two or more states, under mutual agreement and with the concurrence of the NMFS Greater Atlantic Regional Administrator, can transfer or combine summer flounder commercial quota under § 648.102(c)(2). The Regional Administrator is required to consider three criteria in the evaluation of requests for quota transfers or combinations: The transfer or combinations would not preclude the overall annual quota from being fully harvested; the transfer addresses an unforeseen variation or contingency in the fishery; and the transfer is consistent with the objectives of the FMP and the Magnuson-Stevens Fishery Conservation and Management Act. The Regional Administrator has determined these three criteria have been met for the transfers approved in this notification.

Virginia is transferring 30,000 lb (13,608 kg) of summer flounder to Connecticut through mutual agreement of the states. This transfer was requested so that Connecticut would not exceed its 2021 commercial quota. North Carolina is transferring 22,158 lb (10,051 kg) to Rhode Island to repay landings made by a North Carolina-permitted vessel under a safe harbor agreement. The revised summer flounder quotas for 2021 are: Virginia, 2,359,776 lb (1,070,376 kg); Connecticut, 629,376 lb (285,480 kg); North Carolina, 2,952,765 lb (1,339,352 kg); and Rhode Island, 1,883,708 lb (854,436 kg).

Classification

NMFS issues this action pursuant to section 305(d) of the Magnuson-Stevens Act. This action is required by 50 CFR 648.162(e)(1)(i) through (iii), which was issued pursuant to section 304(b), and is exempted from review under Executive Order 12866.

Authority: 16 U.S.C. 1801 et seq.

Dated: November 22, 2021.
Ngagne Jafnar Gueye,
Acting Director, Office of Sustainable Fisheries,National Marine Fisheries Service.

[FR Doc. 2021-25839 Filed 11-22-21; 4:15 pm]

BILLING CODE 3510-22-P